NATIONAL SCIENCE FOUNDATION

Agency Information Collection Activities: Comment Request

AGENCY: National Science Foundation

ACTION: Submission for OMB review; comment request.

SUMMARY: The National Science Foundation (NSF) has submitted the following information collection requirement to OMB for review and clearance under the Paperwork Reduction Act of 1995, Pub. L. 104-13. This is the second notice for public comment; the first was published in the Federal Register at 81 FR 30348, and 50 comments were received. NSF is forwarding the proposed renewal submission to the Office of Management and Budget (OMB) for clearance simultaneously with the publication of this second notice. The full submission may be found at: http://www.reginfo.gov/public/do/PRAMain.

The National Science Foundation (NSF) is announcing plans to request renewed clearance of this collection. The primary purpose of this revision is to implement changes described in the Supplementary Information section of this notice. Comments regarding (a) whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology should be addressed to: Office of Information and Regulatory Affairs of OMB, Attention: Desk Officer for National Science Foundation, 725-17th Street NW., Room 10235, Washington, DC 20503, and to Suzanne H. Plimpton, Reports Clearance Officer, National Science Foundation, 4201 Wilson Boulevard, Suite 1265, Arlington, Virginia 22230 or send email to splimpto@nsf.gov. Individuals who use a telecommunications device for the deaf (TDD) may call the Federal Information Relay Service (FIRS) at 1-800-877-8339, which is accessible 24 hours a day, 7 days a week, 365 days a year (including federal holidays).

Comments regarding these information collections are best assured of having their full effect if received within 30 days of this notification. Copies of the submission(s) may be obtained by calling 703-292-7556.

NSF may not conduct or sponsor a collection of information unless the collection of information displays a currently valid OMB control number and the agency informs potential persons who are to respond to the collection of information that such persons are not required to respond to the collection of information unless it displays a currently valid OMB control number.

SUPPLEMENTARY INFORMATION:

Summary of Comments on the National Science Foundation Proposal and Award Policies and Procedures Guide and NSF's Responses

The draft NSF PAPPG was made available for review by the public on the NSF Web site at http://www.nsf.gov/bfa/dias/policy/. In response to the Federal Register notice published May 16, 2016, at 81 FR 30348, NSF received 50 comments from eight different institutions/individuals; 36 comments were in response to the Proposal and Award Policies and Procedures Guide, Part I, and 14 were in response to the Proposal and Award Policies and Procedures Guide, Part II. Following is the table showing the summaries of the comments received on the PAPPG sections, with NSF's response.

No. | Comment source | Topic & PAPPG Section | Comment | NSF Response
1. | Penn State University | Introduction, Section A | Facilitation Awards for Scientists and Engineers with Disabilities provide funding for special assistance or equipment to enable persons with disabilities to work on NSF-supported projects. See Chapter II.E.7 for instructions regarding preparation of these types of proposals. We believe the above should reference Chapter II. E. 6 | Facilitation Awards for Scientists and Engineers with Disabilities provide funding for special assistance or equipment to enable persons with disabilities to work on NSF-supported projects. See Chapter II.E.7 for instructions regarding preparation of these types of proposals. We believe the above should reference Chapter II. E. 6.
2. | Penn State University | Introduction, Section B | Part II of the NSF Proposal & Award Policies & Procedures Guide sets forth NSF policies regarding the award, and administration, and monitoring of grants and cooperative agreements. Coverage includes the NSF award process, from issuance and administration of an NSF award through closeout. Guidance regarding other grant requirements or considerations that either is not universally applicable or which do not follow the award cycle also is provided. Part II also implements other Public Laws, Executive Orders (E.O.) and other directives insofar as they apply to grants, and is issued pursuant to the authority of Section 11(a) of the NSF Act (42 USC § 1870). When NSF Grant General Conditions or an award notice reference a particular section of the PAPPG, then that section becomes part of the award requirements through incorporation by reference. If the intent of this edit is to incorporate NSF FAQ's in the award terms and conditions, we would recommend further clarification to spell this out in greater detail | It is not NSF's intent to incorporate NSF FAQs into the award terms and conditions. OMB has stated that their FAQs on 2 CFR § 200 have the full force and effect of the Uniform Guidance, but this has no impact on the PAPPG.
3. | Penn State University | Letter of Intent, Chapter I.D.1 | We propose an overall change to the LOI process (for the purpose/sake of consistency), to make all LOI submission's mandatory from an AOR (not the PI) | Given the variance in the types of proposals that use the LOI mechanism, a change in this process would not be appropriate.
4. | Penn State University | Who May Submit Proposals, Chapter I.E.1 (Universities and Colleges) | Recommend an inclusion statement to address Universities and Colleges with multi-campus locations and academic focus. ie. Main campus as PhD awarding institution, while branch campus as PUI. This clarification would be useful for program solicitations with submission limitations | While there is a standard definition of what constitutes a college or university, the PAPPG is indeed silent on how multi-campus locations should be addressed. Various NSF program solicitations do address this issue and vary according to programmatic intent regarding how such satellite campuses should be treated. As such, a statement in the PAPPG would not be able to capture these variances. The PAPPG however does address the vast majority of the programs at NSF. For those programs that limit such eligibility, there are definitions provided in the applicable Program Solicitation.
5. | Penn State University | When to Submit Proposals, Chapter I.F (Special Exceptions) | Include guidance that the name of the NSF Program Officer that granted the special exception to the deadline date policy. Either with a new fill in the blank box on the NSF Cover Sheet or as a Single Copy Documents in FastLane | Thank you for your comment. The PAPPG states that if written approval is available, it should be uploaded. The email should contain the name of the cognizant Program Officer, so an additional space for this information on the Cover Sheet is not necessary. Additional guidance, however, regarding this process has been provided.
6. | Penn State University | Format of the Proposal, Chapter II.B | We believe references 6-10 need to be updated as follows: 9. Center Proposal (see Chapter II.E.10 and relevant funding opportunity); 10. Major Research Equipment and Facility Construction Proposal (see Chapter II.E.11 and relevant funding opportunity) | References were accurate, as stated.
7. | Penn State University | Collaborators & Other Affiliations Information, Chapter II.C.1.e | Please add that this section must be alphabetical order by last name. In general, it should be clarified if this list should be set up much like the templates provided by NSF (columns), or if a running list like the biosketch format is acceptable. Our hope is that one day the file upload can be an excel sheet template that lists this information and becomes sortable for NSF | Instructions to order the list alphabetically by last name have been included. No format for the list is specified in the PAPPG, although some programs may specify a specific format in the applicable program solicitation.
8. | Penn State University | Sections of the Proposal, Chapter II.C.2 | Please add “k. Single Copy Documents—Collaborators & Other Affiliations.” | Comment incorporated.
9. | Penn State University | Cover Sheet, Chapter II.C.2.a | Please add clarification that the title is limited to 180 characters, per the FastLane system | Part I of the PAPPG provides policy and procedural guidance for preparation of proposals. Issues such as field length should be articulated in the relevant NSF system.
10. | Penn State University | Project Summary, Chapter II.C.2.b | “Each proposal must contain a summary of the proposed project not more than one page in length.” This requirement is not just one page in length BUT 4,600 characters. Please clarify that the on-line text boxes only permit this count | This was a known defect in FastLane that has now been addressed. The Project Summary is limited to 1 page as stated in the PAPPG.
11. | Penn State University | Cover Sheet, Chapter II.C.2.a (Footnotes) | If the proposal includes use of vertebrate animals, supplemental information is required. See GPG Chapter II.D.7 for additional information. If the proposal includes use of human subjects, supplemental information is required. See GPG Chapter II.D.8 for additional information. We believe the above should reference Chapter II. D. 4 and Chapter II.D.5 | References were accurate, as stated.
12. | Penn State University | References Cited, Chapter II.C.2.e | We request clarification be added for references of large collaborative group, i.e. CREAM and ICE CUBE. There are hundreds of authors and collaborators to list. Should these be listed in their entirety or are et. al's acceptable? Should a full list be loaded into supplemental documents or single documents? | Thank you for your comment. The norms of the discipline should be followed when preparing the References Cited. Given that each discipline may have different practices, it is not appropriate to include additional instructions in this section.
13. | Penn State University | Senior Personnel Salaries and Wages, Chapter II.C.2.g.(i)(a) | As a general policy, NSF limits the salary compensation requested in the proposal budget for senior personnel to no more than two months of their regular salary in any one year. This limit includes salary compensation received from all NSF-funded grants. This effort must be documented in accordance with 2 CFR § 200, Subpart E. If anticipated, any compensation for such personnel in excess of two months must be disclosed in the proposal budget, justified in the budget justification, and must be specifically approved by NSF in the award notice budget.12 Under normal rebudgeting authority, as described in Chapters VII and X, a recipient can internally approve an increase or decrease in person months devoted to the project after an award is made, even if doing so results in salary support for senior personnel exceeding the two month salary policy. No prior approval from NSF is necessary as long as that change would not cause the objectives or scope of the project to change. NSF prior approval is necessary if the objectives or scope of the project change. We ask that the 2 month rule described above be removed from the proposal budget requirements. Given that rebudgeting authority can allow for internal approvals of increased or decreases, we do not understand why this requirement is still part of the NSF PAPPG | NSF concurs with the portion of the comment regarding the ability to rebudget. However, this policy relates to budgeting salary for senior personnel in both the budget preparation and award phases of the process. NSF plans to maintain its long-standing policy regarding senior personnel salaries and wages in these phases of the process, reflecting the assistance relationship between NSF and grantee institutions.
14. | Penn State University | Participant Support (Line F on the Proposal Budget), Chapter II.C.2.g.(v) | This budget category refers to direct costs for items such as stipends or subsistence allowances, travel allowances, and registration fees paid to or on behalf of participants or trainees (but not employees) in connection with NSF-sponsored conferences or training projects. Any additional categories of participant support costs other than those described in 2 CFR § 200.75 (such as incentives, gifts, souvenirs, t-shirts and memorabilia), must be justified in the budget justification, and such costs will be closely scrutinized by NSF. (See also GPG Chapter II.E.10D.9) For some educational projects conducted at local school districts, however, the participants being trained are employees. In such cases, the costs must be classified as participant support if payment is made through a stipend or training allowance method. The school district must have an accounting mechanism in place (i.e., sub-account code) to differentiate between regular salary and stipend payments. We believe the above should reference is pointing to the incorrect area but we're not sure what reference to suggest in its place | Reference should be Chapter II.E.7. Comment incorporated.
15. | Penn State University | Voluntary Committed and Uncommitted Cost Sharing, Chapter II.C.2.g.(xii) | While voluntary uncommitted costs share is not auditable by NSF, if included in the Facilities and Other Resources section of a proposal, will it be REVIEWABLE by NSF and external reviews? Our concern is that this sort of institutional contribution will still impact reviewers and application that are selected | A description of the resources provided in the Facilities, Equipment and Other Resources document are reviewable, however, per NSF instructions, these resources should not be quantified. A reviewer needs to be able to assess all resources available to the project in order to consider whether sufficient resources are available to carry out the project as proposed. NSF's cost sharing policy was not directed at voluntary uncommitted cost sharing.
16. | Penn State University | Collaborative Proposals, Chapter II.D.3 | Table of Documents for Lead and Non-Lead Organization documents: Please add the Collaborators & Other Affiliations Information under each Organizations column. This will clarify where it belongs in a Collaborative proposal | Comment incorporated.
17. | Penn State University | GOALI, Chapter II.E.4.b | We believe the sentence should read: “Supplemental funding to add GOALI elements to a currently funded NSF research project should be submitted by using the “Supplemental Funding Request” function in FastLane.” | Comment incorporated.
18. | Penn State University | Conference Proposals, Chapter II.E.7 | We believe the sentence should read: “A conference proposal will be supported only if equivalent results cannot be obtained by attendance at regular meetings of professional societies. Although requests for support of a conference proposal ordinarily originates with educational institutions or scientific and engineering societies, they also may come from other groups.” | Comment incorporated.
19. | Penn State University | Travel Proposals, Chapter II.E.9 | We believe the sentence should read: “A proposal for travel, either domestic and/or international, support for participation in scientific and engineering meetings are handled by the NSF organization unit with program responsibility for the area of interest.” | Comment incorporated.
20. | Penn State University | Proposal Preparation Checklist, Exhibit II-1 (Project Description) | We believe the sentence should read: “Results from Prior NSF Support have been provided for PIs and co-PIs who have received NSF support within the last five years. Results related to Intellectual Merit and Broader Impacts are described under two separate, distinct headings and are limited to five pages of the project description.” | Comment incorporated.
21. | Cal Tech | Senior Personnel Salaries and Wages, Chapter II.C.2.g.(i)(a) | The PAPPG states that “NSF limits the salary compensation requested in the proposal budget for senior personnel to no more than two months of their regular salary in any one year.” (emphasis added). The policy is very clear that the focus is on compensation requested, and not on salary expenditures. We agree with and are supportive of that distinction. Our concern here is largely a mechanical one. When we submit a proposal to NSF, how should we determine whether the amount of salary support being requested is “more than two months of their regular salary in any one year?” The answer is very simple if we are dealing with an investigator who has only one NSF grant. It gets much more complicated for investigators with multiple NSF grants, with widely overlapping performance periods. Should we be looking at currently active NSF awards and trying to determine that if the current proposal is funded, will there be a one-year period in which the amount of salary requested will exceed two months of salary? Should we look at currently funded NSF proposals or also take into account pending proposals, as well? We are seeking guidance in the PAPPG that provides some concrete steps to be followed to meet the policy requirement. In the absence of this guidance, we are never quite sure if the approach we are taking is or is not consistent with the policy | Much like guidance contained in the Uniform Guidance, NSF policies are written to allow awardees maximum flexibility in the development of their internal controls to ensure compliance with NSF and federal requirements. As a result the NSF policy on senior personnel salaries and wages requires awardees to determine for themselves the best approach for ensuring compliance.
22. | Cal Tech | Voluntary Committed and Uncommitted Cost Sharing, Chapter II.C.2.g.(xii) | The discussion of voluntary committed and uncommitted cost sharing is very clear. The revisions to this section of the PAPPG have definitely improved the clarity | Thank you for your comment.
23. | Cal Tech | High Performance Computing, Chapter II.D.7 | The information in this section is helpful for investigators who require high-performance computing resources, etc. It is good that the PAPPG has identified specific facilities that can provide advanced computational and data resources | Thank you for your comment.
24. | Cal Tech | Indirect Costs, NSF Policy, Chapter X.D.1 | The statement that continuing increments and supplements will be funded using the negotiated indirect cost rate in effect at the time of the initial award is improved over the previous edition of the PAPPG. That clarity is very helpful and should reduce any confusion or misunderstanding about the intentions of NSF in these situations | Thank you for your comment.
25. | University of Louisiana at Lafayette | Definitions of Categories of Personnel, Exhibit II-7 | Our office has reviewed the proposed changes to the PAPPG and all seem to add clarity and better organization to the document. We do have a comment regarding Section II-61: Definition of senior personnel Faculty Associate (Faculty member) (or equivalent): Defined as an individual other than the Principal Investigator considered by the performing institution to be a member of its Faculty (or equivalent) or who holds an appointment as a Faculty member at another institution and who will participate in the project being supported. We recommend adding `or equivalent' to the definition (see red text above) for clarity, since certain Center staff across our campus are not Faculty members but are eligible to submit proposals | Comment incorporated.
26. | University of Arkansas at Little Rock | NSF-NIH/OLAW MOU | Relevant to the complications posed by the NSF-NIH/OLAW MOU regarding animal oversight, the latest revision of the Guidelines of the American Society of Mammologists for the use of wild mammals in research and education has just been published and is available at http://www.mammalsociety.org/uploads/committee_files/CurrentGuidelines.pdf. This document does a good job of explaining the enormous gulf that exists between effective and appropriate oversight of activities involving wild vertebrates and those using typical laboratory animals. Additionally, the ASM and Oxford University Press have collaborated on and are advertising a collection of papers that address these same concerns. That collection is available at http://jmammal.oxfordjournals.org/page/Guidelines | Updated link has been incorporated.
27. | Kansas State University | Project Summary, Chapter II.C.2.b | The GPG really needs to be updated with the same information that is contained in FastLane on the Project Summary instructions. Specifically, the GPG doesn't tell the faculty the 4600 character limit | This was a known defect in FastLane that has now been addressed. The Project Summary is limited to 1 page as stated in the PAPPG.
28. | Cornell University | Cancelling Appropriations, Chapter VIII.E.6 | Thanks for making the draft FY17 PAPPG available. I noted the additional clarity surrounding cancelled funds, and appreciate things being made clearer. My understanding—but please correct me if I am wrong—is that the period of performance can never go beyond the life of the underlying appropriation. The question has been raised as to how one knows what year's funds were used for an award, and whether FASTLANE or other mechanisms will prevent a grantee-approved NCE that goes beyond the appropriation's life | Your understanding is accurate. FastLane or other mechanisms will prevent an NCE that goes beyond the appropriation's life.
29. | Boise State University | Collaborators & Other Affiliations Information, Chapter II.C.1.e | NSF currently requires “Collaborators & Other Affiliations” as a single-copy document. It is not unusual for specific RFPs to require a second collaborators document in various formats. This is a time-consuming process for what is essentially duplicate information. My comment/request is that NSF have a single “Collaborators & Other Affiliations” document that is in the same format for all RFPs | Additional scrutiny will be given in the review of NSF Program Solicitations to ensure that: (1) Any requirements that are supplemental to the COI requirements specified in the PAPPG receive an additional level of review; and (2) that the COI information is provided only once in a given proposal.
30. | NSF Office of the Inspector General | Introduction, Section B | “When NSF Grant General Conditions or an award notice reference a particular section of the PAPPG, then that section becomes part of the award requirements through incorporation by reference.” This sentence is confusing in light of the preceding sentences, which state, “Part II of the NSF Proposal & Award Policies & Procedures Guide sets forth NSF policies regarding the award, administration, and monitoring of grants and cooperative agreements. Coverage includes the NSF award process, from issuance and administration of an NSF award through closeout. Guidance regarding other grant requirements or considerations that either is not universally applicable or which do not follow the award cycle also is provided.” NSF General Grant Conditions require recipients to comply with NSF policies (NSF General Grant Conditions, Article 1.d.2), which are set forth in this document. The sentence in question could wrongly lead one to believe that only sections of the PAPPG specifically mentioned in award terms and conditions need to be followed. We strongly suggest that this sentence be removed | In large part, the PAPPG provides guidance and explanatory material to proposers and awardees. Therefore, it would be inappropriate to impose on NSF awardee organizations the requirement to comply with all such guidance and explanatory material as terms and conditions of an NSF award. NSF strongly believes that the articles specified in the General Conditions clearly articulate the parts of the PAPPG that are indeed requirements imposed on a recipient, and, for which they will be held responsible.
31. | NSF Office of the Inspector General | Introduction, Section B | “The PAPPG does not apply to NSF contracts.” We suggest expanding this to include language that appeared in prior versions of the AAG: “The PAPPG is applicable to NSF grants and cooperative agreements, unless noted otherwise in the award instrument. This Guide does not apply to NSF contracts.” | Language has been revised to address issue.
32. | NSF Office of the Inspector General | Special Exceptions to NSF's Deadline Date Policy, Chapter I.F.2 | “If available, written approval from the cognizant NSF Program Officer should be uploaded with the proposal as a Single Copy Document in FastLane. Proposers should then follow the written or verbal guidance provided by the cognizant NSF Program Officer.” We suggest that approval for exceptions to the deadline date policy only be provided in writing rather than also allowing for the option of verbal approval | The ability to receive verbal approval only is absolutely vital in cases of natural or anthropogenic events. We have received numerous complaints from PIs who did not even have access to a computer during the natural event, but wanted NSF to be aware that their proposal would not be able to be submitted on time. We believe that it is vital to retain such flexibility in cases of natural or anthropogenic events.
33. | NSF Office of the Inspector General | Contingency and Management Fees, Chapter II | General comment: We suggest that an explicit reference be made to the appropriate NSF guides and/or manuals that contain information related to the proper budgeting and expenditure of management fees and contingency funds | A reference to the Large Facilities Manual has been incorporated into the opening of the budget section.
34. | NSF Office of the Inspector General | Senior Personnel Salaries and Wages, Chapter II.C.2.g.(i)(a) | “This effort must be documented in accordance with 2 CFR § 200, Subpart E.” We suggest that the third sentence of the second paragraph be modified to add references to specific sections of the Uniform Guidance, as follows (new text in red): “This effort must be documented in accordance with 2 CFR § 200, Subpart E, including §§ 200.430 and 200.431.” Adding a reference to specific sections of the Uniform Guidance will allow users to more easily identify and understand the regulations that govern their awards | Section 2 CFR 200.430(i) is specifically relevant to documentation of personnel expenses. This reference has been incorporated.
35. | NSF Office of the Inspector General | Senior Personnel Salaries and Wages, Chapter II.C.2.g.(i)(a) | “Under normal rebudgeting authority, as described in Chapters VII and X, a recipient can internally approve an increase or decrease in person months devoted to the project after an award is made, even if doing so results in salary support for senior personnel exceeding the two month salary policy. No prior approval from NSF is necessary as long as that change would not cause the objectives or scope of the project to change.” We suggest that the indicated sentences be removed. Allowing awardees to exceed the general two month salary limit without NSF approval contradicts the prior paragraph in section II.C.2.g.(i)(a) that states, “NSF regards research as one of the normal functions of faculty members at institutions of higher education. Compensation for time normally spent on research within the term of appointment is deemed to be included within the faculty member's regular organizational salary.” By allowing awardees to unilaterally rebudget salary above the two-month limit, NSF runs the risk of reimbursing the very compensation costs that it deems “to be included within the faculty member's regular organizational salary.” | In accordance with final decisions issued by the NSF Audit Followup Official on this audit matter, by the nature of assistance awards, awardees have the responsibility to determine how best to achieve stated goals within project objective or scope. Research often requires adjustments, and NSF permits post-award re-budgeting of faculty compensation. NSF is aligned with federal guidelines and regulations in allowing re-budgeting of such compensation without prior Agency approval, unless it results in changes to objectives or scope.
36. | NSF Office of the Inspector General | Administrative and Clerical Salaries and Wages Policy, Chapter II.C.2.g.(i)(b) | “Conditions (i) (ii) and (iv) above are particularly relevant for consideration at the budget preparation stage.” As revised, the last sentence of this page highlights 3 of the 4 conditions as “particularly relevant.” The fourth condition, which is not highlighted as “particularly relevant,” is the requirement that such costs be included in the approved budget or have prior written approval of the cognizant NSF Grants Officer—a requirement that is explicitly stated in Chapter X, § A.3.b.2 of the proposed PAPPG. We suggest deleting the sentence, “Conditions (i) (ii) and (iv) above are particularly relevant for consideration at the budget preparation stage.” If desired, an alternative sentence such as the following could replace it: “These conditions are particularly relevant for consideration at the budget preparation stage.” | NSF does not find this language confusing as (i), (ii) and (iv) are the only conditions that are relevant at the proposal preparation stage. That is why a similar sentence is not included in Chapter X.b.2. of the PAPPG.
37. | NSF Office of the Inspector General | Equipment, Chapter II.C.2.g.(iii)(d) | “Any request to support such items must be clearly disclosed in the proposal budget, justified in the budget justification, and be included in the NSF award budget.” We suggest including the following sentence at the end of the section on Equipment: “See 2 CFR §§ 200.310 and 200.313 for additional information.” Adding a reference to specific sections of the Uniform Guidance will allow users to more easily identify and understand the regulations that govern their awards | 2 CFR 200.313 will be incorporated.
38. | NSF Office of the Inspector General | Entertainment, Chapter II.C.2.g.(xiii)(a) | “Costs of entertainment, amusement, diversion and social activities, and any costs directly associated with such activities (such as tickets to shows or sporting events, meals, lodging, rentals, transportation and gratuities) are unallowable. Travel, meal and hotel expenses of grantee employees who are not on travel status are unallowable. Costs of employees on travel status are limited to those specifically authorized by 2 CFR § 200.474.” We suggest keeping the two sentences that are proposed to be stricken at the end of this section (in addition to having this text also included in Chapter II.C.2.g.(iv)), as it is useful and applicable guidance to grantees looking up the rules in both sections. We also recommend adding an explicit reference to 2 CFR § 200.438 at the end of the Entertainment paragraph so the last three sentences read: “Travel, meal and hotel expenses of grantee employees who are not on travel status are unallowable. Costs of employees on travel status are limited to those specifically authorized by 2 CFR § 200.474. See 2 CFR § 200.438 for additional information about entertainment costs.” Adding a reference to specific section of the Uniform Guidance will allow users to more easily identify and understand the regulations that govern their awards | A reference to the relevant Uniform Guidance section will be added and the first stricken sentence identified will be kept. However, the second sentence will be removed to ensure clarity on the intended topic which is “Entertainment Costs“. NSF believes that the search tools/options available in the PAPPG are sufficient to provide awardees quick and direct access to specific topics on items of costs, including travel and entertainment costs.
39. | NSF Office of the Inspector General | NSF Award Conditions, Chapter VI.C | “When these conditions reference a particular PAPPG section, that section becomes part of the award requirements through incorporation by reference.” Please see our suggestions outlined in comment number 1 | See NSF Response to Comment 30.
40. | NSF Office of the Inspector General | NSF-Approved Extension, Chapter VI.D.3.c(ii)(a) | “The request should be submitted to NSF at least 45 days prior to the end date of the grant.” We believe that this alteration fully changes the guidance rather than simply updating it for clarity. We suggest returning the sentence back to the way it was originally written to state, “The request must be submitted to NSF at least 45 days prior to the end date of the grant.” This will allow responsible NSF officials adequate time to fully review the request | NSF believes that the revised language is appropriate. Requests must be submitted at least 45 days prior to the end date of the grant. If submitted late, the request must include a strong justification as to why it was not submitted earlier. That provides the necessary ability for the Foundation to appropriately respond to situations where a compelling rationale is provided.
41. | NSF Office of the Inspector General | Changes in Objectives or Scope, Chapter VII.B.1(a) | “The objectives or scope of the project may not be changed without prior NSF approval. Such change requests must be signed and submitted by the AOR via use of NSF's electronic systems.” We suggest adopting similar guidance to the National Institutes of Health that defines change of scope and provides potential indicators. This guidance can be found in section 8.1.2.5 of the NIH Grants Policy Statement. Alternatively, we suggest adding a list of circumstances that could be considered a change of scope. For example, significant increase/decrease in a PI's effort allocated to the project, a significant decrease in research opportunities for graduate and undergraduate students, and significant (>25%) rebudgeting of costs among budget categories, which indicates a material change in the research methodology | Rather than develop a listing of potential “indicators” of a change in scope, NSF prefers to continue use of Article 2 to identify areas that require NSF prior approval.
42. | NSF Office of the Inspector General | Award Financial Reporting Requirements and Final Disbursements, Chapter VIII.E.6 | “NSF will notify grantees of any canceling appropriations on open awards in order for grantees to properly expend and draw down funds before the end of the fiscal year.” We suggest adding a sentence that reminds awardees that funds must still be used on allowable, allocable, and reasonable costs, and that the drawdown must be related to expenses that have already been incurred or will be incurred within 3 days of the drawdown, per NSF policy. In the past, awardees have misconstrued NSF's guidance and have drawn down funds for expenditures that had not been incurred and were not anticipated to be incurred within 3 days | A reference to the section on grantee payments has been incorporated into the paragraph on cancelling appropriations.
43. | NSF Office of the Inspector General | Conflict of Interest Policies, Chapter IX.A | “Guidance for development of such polices has been issued by university associations and scientific societies. In addition to the stated language, we suggest that NSF also provide examples of key components of an effective policy | NSF defers to grantee organizations regarding the provision of examples in their policies that are most applicable to their organization.
44. | NSF Office of the Inspector General | Conflict of Interest Policies, Chapter IX.A | “significant financial interest” does not include “any ownership in the organization, if the organization is an applicant under the [SBIR/STTR programs]?” What is intended regarding IX.A.2.b, that the term “significant financial interest” does not include “any ownership in the organization, if the organization is an applicant under the [SBIR/STTR programs]?” In the instance of a professor being proposed as co-PI for a university for a subcontract through an SBIR award, where that professor is also an owner of an SBIR applicant, this section may be interpreted to mean that professor does not have to disclose her ownership interest in the SBIR company. We suggest adding language to make this more clear and to remove any potential loop holes | NSF believes that there is value in having a consistent SBIR exclusion between NSF and NIH. Excluding SBIR awards from NSF's policy reflects the fact that limited amounts of funding are provided for SBIR Phase I awards and an ownership interest in an SBIR institution at this phase is not likely to create a bias in the outcome of the research. This exclusion takes into consideration the fact that potentially biasing financial interests will be assessed during submission of SBIR Phase II proposals. Moreover, in order for an institution to receive the designation as being eligible for the SBIR program, this information is collected through the SBIR Company Registry by the Small Business Administration and identified in the supplemental SBIR document provided by SBA. Further, we note that the OMB Uniform Administrative Requirements, Cost Principles, and Audit Requirements for Federal Awards (September 10, 2015), require a Federal awarding agency to have an awardee conflict of interest policy and require the awardee to report conflicts of interest to the Federal awarding agency. (2 CFR 200.112) NSF's policy complies with the uniform standards.
45. | NSF Office of the Inspector General | Conflict of Interest Policies, Chapter IX.A | “an equity interest that, when aggregated for the investigator and the investigator's spouse and dependent children, meets both of the following tests: (i) Does not exceed $10,000 in value as determined through reference to public prices or other reasonable measures of fair market value; and (ii) does not represent more than a 5% ownership interest in any single entity;” How were the thresholds of $10,000 or a 5% ownership interest in IX.A.2.e determined? How is 5% ownership interest defined and how is an individual supposed to determine if he/she has a 5% ownership interest? It may require knowledge outside of their control, for instance, knowledge of all owners and the total assets of the company in order to calculate their share. We suggest erring on the side of more disclosure as opposed to less, and simply requiring individuals with ownership interests to make disclosures so that it is more clear | NSF's thresholds reflect language agreed upon in 1995, as a result of close coordination between NSF and NIH. At the time, both agencies' policies went through extensive public comment periods.
46. | NSF Office of the Inspector General | Allowability of Costs, Chapter X | General comment: We suggest that any references to 2 CFR § 200 include a hyperlink directly to the regulation to help facilitate better understanding by the user | A hypertext link to 2 CFR § 200 already appears in the html version of the PAPPG.
47. | NSF Office of the Inspector General | Pre-Award (Pre-Start Date) Costs, Chapter X.A.2.b | We suggest language reinforcing the policy in Chapter VI, § E.2. that costs incurred under an “old grant cannot be transferred to the new grant” in the case of a renewal grant. The 90-day preaward cost allowability provision should not apply to renewal grants, even if the “old” award has been fully expended. This would constitute a transfer of a loss on the “old” grant to the “new” grant, which is unallowable under 2 CFR § 200.451 | Comment incorporated.
48. | NSF Office of the Inspector General | Salaries and Wages, Chapter X.B.1.a | “Compensation paid or accrued by the organization for employees working on the NSF-supported project during the grant period is allowable, in accordance with 2 CFR § 200.430” We suggest including additional narrative here summarizing the requirements that are specified in 2 CFR § 200.430 (similar to what is included at Chapter II.C.2.g.(i)) as opposed to relying solely on awardees pulling up the reference to the Uniform Guidance. This will allow users to better understand the guidance and regulations applicable to their awards | NSF believes that incorporation of the entire Uniform Guidance into the PAPPG is not prudent. The PAPPG would then become incredibly lengthy and unhelpful to users. Rather, a hypertext link is provided to each of the applicable references in the Uniform Guidance.
49. | NSF Office of the Inspector General | Administrative and Clerical Salaries and Wages, Chapter X.B.2 | “Such costs are explicitly included in the approved budget or have the prior written approval of the cognizant NSF Grants Officer;” We suggest that for direct charging of administrative/clerical salaries and wages to be allowable, they must be explicitly approved in the award notice. This is consistent with section X.A.3.b.2, which states that salaries of administrative and clerical staff must receive written prior approval from the Grants and Agreements Officer | This recommendation is inconsistent with the approach established in 2 CFR § 200. Throughout the document, regular reference is made to “are explicitly included in the budget.” Such inclusion in the budget serves to explicitly document agency approval of specific cost categories at the time of the award.
50. | NSF Office of the Inspector General | Intra-University (IHE) Consulting, Chapter X.B.3 | “If anticipated, any compensation for such consulting services should be disclosed in the proposal budget, justified in the budget justification, and included in the NSF award budget.” We suggest including the following sentence at the end of this section: “See 2 CFR § 200.430(h)(3) for additional information.” Adding a reference to specific section of the Uniform Guidance will allow users to more easily identify and understand the regulations that govern their awards | Comment incorporated.

Title of Collection: “National Science Foundation Proposal & Award Policies & Procedures Guide.”

OMB Approval Number: 3145-0058.

Type of Request: Intent to seek approval to extend with revision an information collection for three years.

Proposed Project: The National Science Foundation Act of 1950 (Public Law 81-507) sets forth NSF's mission and purpose:

“To promote the progress of science; to advance the national health, prosperity, and welfare; to secure the national defense. . . .”

The Act authorized and directed NSF to initiate and support:

• Basic scientific research and research fundamental to the engineering process;

• Programs to strengthen scientific and engineering research potential;

• Science and engineering education programs at all levels and in all the various fields of science and engineering;

• Programs that provide a source of information for policy formulation; and

• Other activities to promote these ends.

NSF's core purpose resonates clearly in everything it does: Promoting achievement and progress in science and engineering and enhancing the potential for research and education to contribute to the Nation. While NSF's vision of the future and the mechanisms it uses to carry out its charges have evolved significantly over the last six decades, its ultimate mission remains the same.

Use of the Information: The regular submission of proposals to the Foundation is part of the collection of information and is used to help NSF fulfill this responsibility by initiating and supporting merit-selected research and education projects in all the scientific and engineering disciplines. NSF receives more than 50,000 proposals annually for new projects, and makes approximately 11,000 new awards.

Support is made primarily through grants, contracts, and other agreements awarded to approximately 2,000 colleges, universities, academic consortia, nonprofit institutions, and small businesses. The awards are based mainly on merit evaluations of proposals submitted to the Foundation.

The Foundation has a continuing commitment to monitor the operations of its information collection to identify and address excessive reporting burdens as well as to identify any real or apparent inequities based on gender, race, ethnicity, or disability of the proposed principal investigator(s)/project director(s) or the co-principal investigator(s)/co-project director(s).

Burden on the Public

It has been estimated that the public expends an average of approximately 120 burden hours for each proposal submitted. Since the Foundation expects to receive approximately 52,000 proposals in FY 2017, an estimated 6,240,000 burden hours will be placed on the public.

The Foundation has based its reporting burden on the review of approximately 52,000 new proposals expected during FY 2017. It has been estimated that anywhere from one hour to 20 hours may be required to review a proposal. We have estimated that approximately 5 hours are required to review an average proposal. Each proposal receives an average of 3 reviews, resulting in approximately 780,000 burden hours each year.

The information collected on the reviewer background questionnaire (NSF 428A) is used by managers to maintain an automated database of reviewers for the many disciplines represented by the proposals submitted to the Foundation. Information collected on gender, race, and ethnicity is used in meeting NSF needs for data to permit response to Congressional and other queries into equity issues. These data also are used in the design, implementation, and monitoring of NSF efforts to increase the participation of various groups in science, engineering, and education. The estimated burden for the Reviewer Background Information (NSF 428A) is estimated at 5 minutes per respondent with up to 10,000 potential new reviewers for a total of 833 hours.

The aggregate number of burden hours is estimated to be 7,020,000. The actual burden on respondents has not changed.

Dated: August 3, 2016.
Suzanne H. Plimpton,
Reports Clearance Officer, National Science Foundation.

[FR Doc. 2016-18758 Filed 8-5-16; 8:45 am]

BILLING CODE 7555-01-P